DEPARTMENT OF ENERGY

Federal Energy Regulatory Commission

[Docket Nos. CP16-486-000; PF16-3-000]

Millennium Pipeline Company, LLC; Notice of Schedule for Environmental Review of the Eastern System Upgrade Project

On July 29, 2016, Millennium Pipeline Company, LLC (Millennium) filed an application in Docket No. CP16-486-000 requesting a Certificate of Public Convenience and Necessity pursuant to Section 7(c) of the Natural Gas Act to construct and operate certain natural gas pipeline facilities. The proposed project is known as the Eastern System Upgrade Project (Project), and it would transport additional natural gas from Millennium's existing Corning Compressor Station to an existing interconnect with Algonquin Gas Transmission, LLC in Ramapo, New York.

On August 11, 2016, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA, April 7, 2017.

90-day Federal Authorization Decision Deadline, July 6, 2017.

If a schedule change becomes necessary, additional notice will be provided so that the relevant agencies are kept informed of the Project's progress.

Project Description

The proposed Project includes (i) approximately 7.8-miles of 30- and 36-inch-diameter pipeline loop in Orange County, New York; (ii) a new 22,400 horsepower (HP) compressor station in Sullivan County, New York (Highland Compressor Station); (iii) additional 22,400 HP at the existing Hancock Compressor Station in Delaware County, New York; (iv) modifications to the existing Ramapo Meter and Regulator Station in Rockland County, New York; (v) modifications to the Wagoner Interconnect in Orange County, New York; (vi) additional pipeline appurtenant facilities at the existing Huguenot and Westtown Meter and Regulator Stations in Orange County, New York; and (vii) an alternate interconnect to the 16-inch-diameter Valley Lateral at milepost 7.6 of the Project. The Project would allow Millennium to transport an additional 233,000 dekatherms per day of additional natural gas service.

Background

On May 11, 2016, the Commission issued a Notice of Intent to Prepare an Environmental Assessment for the Planned Eastern System Upgrade Project and Request for Comments on Environmental Issues (NOI). The NOI was issued during the pre-filing review of the Project in Docket No. PF16-3-000 and was sent to affected landowners; federal, state, and local government agencies; elected officials; environmental and public interest groups; Native American tribes; other interested parties; and local libraries and newspapers. In response to the NOI, the Commission received comments from the New York State Department of Agriculture (NYSDAM), the Delaware Tribe of Indians, the U.S. Environmental Protection Agency (EPA), environmental and public interest groups, and individual stakeholders. The primary issues raised by commentors addressed concerns specific to the Highland Compressor Station, including health risks associated with air and greenhouse gas emissions, and socioeconomic impacts. Commentors also expressed concerns regarding Project impacts on surface and groundwater; wetlands; threatened and endangered species; cultural resources and historic structures; soils; property values; safety, including strains on local emergency services; pollution prevention practices; and climate change.

The EPA, NYSDAM, Stockbridge-Munsee Band of Mohicans, and Delaware Tribe of Indians are participating as cooperating agencies in the preparation of this EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP16-486), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: December 22, 2016.
Nathaniel J. Davis, Sr.,
Deputy Secretary.

[FR Doc. 2016-31536 Filed 12-28-16; 8:45 am]

BILLING CODE 6717-01-P